DEPARTMENT OF ENERGY

Federal Energy Regulatory Commission

[Docket No. CP00-103-000]

Northern Natural Gas Company; Notice of Application

March 9, 2000.

Take notice that on February 28, 2000, Northern Natural Gas Company (Northern), 1111 South 103rd Street, Omaha, Nebraska 68124-1000, filed in Docket No. CP00-103-000 an application pursuant to Section 7(b) of the Natural Gas Act (NGA) for permission and approval to abandon an individually certificated transportation agreement between Northern and Southern Union Gas Company (Southern Union) under its Rate Schedule X-25 contained in its FERC Gas Tariff, Original Volume No. 2, all as more fully set forth in the application, which is on file with the Commission and open to public inspection. The application may be viewed on the web at www.ferc.fed.us/online/rims.htm. Call (202) 208-2222 for assistance.

Northern states that the agreement provided for Northern to make firm deliveries of up to 14 Mcf of natural gas per day on any day of the year and interruptible deliveries of up to 151 Mcf per day of Off Peak volumes between April 1 and October 1 to Southern Union. According to Northern, the contract underlying this arrangement has been terminated by mutual agreement between the parties, and no service has been provided for several years. No facilities will be abandoned as a result of the proposed abandonment of service. Northern contends that it will file the appropriately revised tariff sheets upon approval by the Commission of the requested abandonment.

Any questions regarding this application should be directed to Keith L. Petersen, Director, Certificates and Reporting for Northern, 1111 Southern 103rd Street, Omaha, Nebraska 68124, at (402) 398-7421, or Laura L. Lantefield, Regulatory Analyst, at (402) 398-7080.

Any person desiring to be heard or to make any protest with reference to said application should on or before March 30, 2000, file with the Federal Energy Regulatory Commission (888 First Street, NE, Washington, DC 20426) a motion to intervene or a protest in accordance with the requirements of the Commission's Rules of Practice and Procedure (18 CFR 385.211) and the Regulations under the Natural Gas Act (18 CFR 157.10). All Protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its on review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for Northern to appear or be represented at the hearing.

David P. Boergers,
Secretary.

[FR Doc. 00-6310 Filed 3-14-00; 8:45 am]

BILLING CODE 6717-01-M